DEPARTMENT OF JUSTICE

Antitrust Division

Notice Pursuant to the National Cooperative Research and Production Act of 1993—National Information Standards Organization

Notice is hereby given that, on September 16, 2004, pursuant to section 6(a) of the National Cooperative Research and Production Act of 1993, 15 U.S.C. 4301 et seq. (“the Act”), National Information Standards Organization (“NISO”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: National Information Standards Organization, Bethesda, MD. The nature and scope of NISO's standards development activities are: To develop voluntary, consensus technical standards relevant to information systems; products, including hardware and supplies; and services, as they relate to libraries, bibliographic and information services, and publishing.

Dorothy B. Fountain,
Deputy Director of Operations, Antitrust Division.

[FR Doc. 04-23774 Filed 10-22-04; 8:45 am]

BILLING CODE 4410-11-M